DEPARTMENT OF HOMELAND SECURITY

Federal Emergency Management Agency

44 CFR Part 64

[Docket ID FEMA-2018-0002; Internal Agency Docket No. FEMA-8557]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at https://www.fema.gov/national-flood-insurance-program-community-status-book.

DATES: The effective date of each community's scheduled suspension is the third date (“Susp.”) listed in the third column of the following tables.

FOR FURTHER INFORMATION CONTACT: If you want to determine whether a particular community was suspended on the suspension date or for further information, contact Adrienne L. Sheldon, PE, CFM, Federal Insurance and Mitigation Administration, Federal Emergency Management Agency, 400 C Street SW, Washington, DC 20472, (202) 212-3966.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. FEMA has determined that the community suspension(s) included in this rule is a non-discretionary action and therefore the National Environmental Policy Act of 1969 (42 U.S.C. 4321 et seq.) does not apply.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAS
Region IV
Florida: Fort Myers, City of, Lee County | 125106 | October 30, 1970, Emerg; April 16, 1979, Reg; December 7, 2018, Susp | Dec. 7, 2018 | Dec. 7, 2018.
Georgia:
Allenhurst, Town of, Liberty County | 130350 | May 6, 1975, Emerg; June 17, 1986, Reg; December 7, 2018, Susp | ......do * | Do.
Flemington, City of, Liberty County | 130124 | November 27, 1974, Emerg; May 17, 1982, Reg; December 7, 2018, Susp | ......do | Do.
Hinesville, City of, Liberty County | 130125 | June 13, 1975, Emerg; September 16, 1982, Reg; December 7, 2018, Susp | ......do | Do.
Liberty County, Unincorporated Areas | 130123 | January 22, 1975, Emerg; December 1, 1983, Reg; December 7, 2018, Susp | ......do | Do.
Midway, City of, Liberty County | 130351 | July 22, 1975, Emerg; September 30, 1981, Reg; December 7, 2018, Susp | ......do | Do.
Riceboro, City of, Liberty County | 130126 | June 26, 1975, Emerg; November 4, 1981, Reg; December 7, 2018, Susp | ......do | Do.
Walthourville, City of, Liberty County | 130459 | N/A, Emerg; October 29, 2008, Reg; December 7, 2018, Susp | ......do | Do.
South Carolina:
Berkeley County, Unincorporated Areas | 450029 | October 13, 1978, Emerg; September 30, 1983, Reg; December 7, 2018, Susp | ......do | Do.
Goose Creek, City of, Berkeley County | 450206 | April 18, 1975, Emerg; February 17, 1982, Reg; December 7, 2018, Susp | ......do | Do.
Hanahan, City of, Berkeley County | 450030 | October 25, 1973, Emerg; June 15, 1981, Reg; December 7, 2018, Susp | ......do | Do.
Moncks Corner, Town of, Berkeley County | 450031 | July 1, 1975, Emerg; January 16, 1981, Reg; December 7, 2018, Susp | ......do | Do.
Region V
Minnesota:
Caledonia, City of, Houston County | 270712 | May 21, 2001, Emerg; N/A, Reg; December 7, 2018, Susp | ......do | Do.
Hokah, City of, Houston County | 270192 | November 29, 1974, Emerg; March 15, 1982, Reg; December 7, 2018, Susp | December 7, 2018 | December 7, 2018.
Houston, City of, Houston County | 270193 | November 13, 1974, Emerg; July 16, 1979, Reg; December 7, 2018, Susp | ......do | Do.
Houston County, Unincorporated Areas | 270190 | April 30, 1974, Emerg; January 6, 1982, Reg; December 7, 2018, Susp | ......do | Do.
La Crescent, City of, Houston and Winona Counties | 275237 | February 11, 1972, Emerg; July 20, 1973, Reg; December 7, 2018, Susp | ......do | Do.
Region VII
Iowa:
Adel, City of, Dallas County | 190103 | July 30, 1975, Emerg; August 4, 1987, Reg; December 7, 2018, Susp | ......do | Do.
Dallas Center, City of, Dallas County | 190564 | N/A, Emerg; February 22, 2010, Reg; December 7, 2018, Susp | ......do | Do.
Dallas County, Unincorporated Areas | 190860 | December 14, 1992, Emerg; May 1, 1994, Reg; December 7, 2018, Susp | ......do | Do.
Dawson, City of, Dallas County | 190358 | N/A, Emerg; August 12, 2011, Reg; December 7, 2018, Susp | ......do | Do.
De Soto, City of, Dallas County | 190359 | September 1, 1979, Emerg; September 27, 1985, Reg; December 7, 2018, Susp | ......do | Do.
Granger, City of, Dallas County | 190104 | October 29, 1976, Emerg; June 1, 1987, Reg; December 7, 2018, Susp | ......do | Do.
Perry, City of, Dallas County | 190105 | June 10, 1975, Emerg; September 4, 1985, Reg; December 7, 2018, Susp | ......do | Do.
Redfield, City of, Dallas County | 190361 | October 26, 1976, Emerg; September 18, 1985, Reg; December 7, 2018, Susp | ......do | Do.
Van Meter, City of, Dallas County | 190362 | N/A, Emerg; January 26, 2009, Reg; December 7, 2018, Susp | ......do | Do.
Waukee, City of, Dallas County | 190678 | N/A, Emerg; May 3, 2001, Reg; December 7, 2018, Susp | ......do | Do.
Region VIII
Colorado:
Colorado Springs, City of, El Paso County | 080060 | March 30, 1973, Emerg; December 18, 1986, Reg; December 7, 2018, Susp | ......do | Do.
El Paso County, Unincorporated Areas | 080059 | March 9, 1973, Emerg; December 18, 1986, Reg; December 7, 2018, Susp | ......do | Do.
Fountain, City of, El Paso County | 080061 | October 2, 1974, Emerg; June 5, 1985, Reg; December 7, 2018, Susp | ......do | Do.
Green Mountain Falls, Town of, El Paso County | 080062 | March 18, 1975, Emerg; June 5, 1985, Reg; December 7, 2018, Susp | ......do | Do.
Manitou Springs, City of, El Paso County | 080063 | May 29, 1975, Emerg; February 1, 1984, Reg; December 7, 2018, Susp | ......do | Do.
Monument, Town of, El Paso County | 080064 | June 10, 1975, Emerg; December 18, 1986, Reg; December 7, 2018, Susp | ......do | Do.
Palmer Lake, Town of, El Paso County | 080065 | August 16, 1973, Emerg; July 3, 1978, Reg; December 7, 2018, Susp | ......do | Do.
Region X
Oregon:
Bandon, City of, Coos County | 410043 | October 11, 1974, Emerg; August 15, 1984, Reg; December 7, 2018, Susp | ......do | Do.
Coos Bay, City of, Coos County | 410044 | August 23, 1974, Emerg; August 1, 1984, Reg; December 7, 2018, Susp | ......do | Do.
Coos County, Unincorporated Areas | 410042 | July 7, 1975, Emerg; November 15, 1984, Reg; December 7, 2018, Susp | ......do | Do.
Coquille, City of, Coos County | 410045 | April 29, 1975, Emerg; September 28, 1984, Reg; December 7, 2018, Susp | ......do | Do.
Lakeside, City of, Coos County | 410278 | June 2, 1975, Emerg; August 1, 1984, Reg; December 7, 2018, Susp | ......do | Do.
Myrtle Point, City of, Coos County | 410047 | January 30, 1975, Emerg; July 16, 1984, Reg; December 7, 2018, Susp | ......do | Do.
North Bend, City of, Coos County | 410048 | June 4, 1975, Emerg; August 1, 1984, Reg; December 7, 2018, Susp | ......do | Do.
Powers, City of, Coos County | 410049 | August 6, 1975, Emerg; June 30, 1976, Reg; December 7, 2018, Susp | ......do | Do.
* ......do = Ditto.
Code for reading third column: Emerg.—Emergency; Reg.—Regular; Susp.—Suspension.

Dated: November 16, 2018.
Eric Letvin,
Deputy Assistant Administrator for Mitigation, Federal Insurance and Mitigation Administration—FEMA Resilience, Department of Homeland Security, Federal Emergency Management Agency.

[FR Doc. 2018-26132 Filed 12-3-18; 8:45 am]

BILLING CODE 9110-12-P